DEPARTMENT OF EDUCATION

Submission for OMB Review; Comment Request

AGENCY: Department of Education.

SUMMARY: The Leader, Information Management Group, Office of the Chief Information Officer invites comments on the submission for OMB review as required by the Paperwork Reduction Act of 1995.

DATES: Interested persons are invited to submit comments on or before May 1, 2000.

ADDRESSES: Written comments should be addressed to the Office of Information and Regulatory Affairs, Attention: Danny Werfel, Desk Officer, Department of Education, Office of Management and Budget, 725 17th Street, N.W., Room 10235, New Executive Office Building, Washington, D.C. 20503 or should be electronically mailed to the internet address DWERFEL@OMB.EOP.GOV.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Leader, Information Management Group, Office of the Chief Information Officer, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

Dated: March 24, 2000.
William Burrow,
Leader, Information Management GroupOffice of the Chief Information Officer.

Office of Educational Research and Improvement

Type of Review: New.

Title: National Household Education Survey of 2001 (NHES: 2001).

Frequency: Weekly.

Affected Public: Individuals or households.

Reporting and Recordkeeping Hour Burden:

Responses: 3,100. Burden Hours: 465.

Abstract: The NHES:2001 will be a survey of households using random-digit-dialing and computer-assisted telephone interviewing. The topical components are Early Childhood Program Participation, Before-and After-School Programs and Activities, and Adult Education and Lifelong Learning. Respondents to the first two components will be parents of children from birth to age 6 who are not yet in kindergarten and children in kindergarten through grade 8, respectively. Respondents to the third component will be persons age 16 and older who are not enrolled in elementary or secondary school. This survey will provide NCES with current measures of educational participation for preschool children adn adults and will also provide much needed baseline information from a national sample on the out-of-school activities of school-age children.

Requests for copies of the proposed information collection request may be accessed from http://edicsweb.ed.gov, or should be addressed to Vivian Reese, Department of Education, 400 Maryland Avenue, SW, Room 5624, Regional Office Building 3, Washington, D.C. 20202-4651. Requests may also be electronically mailed to the internet address OCIO_IMG_Issues@ed.gov or faxed to 202-708-9346. Please specify the complete title of the information collection when making your request.

Comments regarding burden and/or the collection activity requirements should be directed to Kathy Axt at (202) 708-9346 or via her internet address Kathy_Axt@ed.gov. Individuals who use a telecommunications device for the deaf (TDD) may call the Federal Information Relay Service (FIRS) at 1-800-877-8339.

[FR Doc. 00-7805 Filed 3-29-00; 8:45 am]

BILLING CODE 4000-01-U